DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (the SDN List) based on OFAC's determination that one or more applicable legal criteria were satisfied. All property and interests in property subject to U.S. jurisdiction of these persons are blocked, and U.S. persons are generally prohibited from engaging in transactions with them. Additionally, OFAC is publishing the names of one or more persons that have been removed from the SDN List. Their property and interests in property are no longer blocked, and U.S. persons are no longer generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

A. On March 3, 2020, OFAC determined that the property and interests in property subject to U.S. jurisdiction of the following persons are blocked under the relevant sanctions authority listed below.

Individuals

1. SANYATWE, Anselem Nhamo, Zimbabwe; Tanzania; DOB 21 Jan 1956; Gender Male; Passport 290060361Y34 (Zimbabwe) expires 23 Jun 2024 (individual) [ZIMBABWE].

Designated pursuant to section 1(a)(iv) of Executive Order 13469 of July 25, 2008, “Blocking Property of Additional Persons Undermining Democratic Processes or Institutions in Zimbabwe,” 73 FR 43841, 3 CFR, 2009 Comp., p. 216, (E.O. 13469) for being responsible for, or having participated in, human rights abuses related to political repression in Zimbabwe.

2. NCUBE, Owen, Zimbabwe; DOB 17 Apr 1968; Gender Male (individual) [ZIMBABWE].

Designated pursuant to section 1(a)(iv) of E.O. 13469 for being responsible for, or having participated in, human rights abuses related to political repression in Zimbabwe.

B. The President identified the individuals below in the Annex to Executive Order 13288, “Blocking Property of Persons Undermining Democratic Processes or Institutions in Zimbabwe” (E.O. 13288). The Annex to E.O. 13288 was replaced and superseded by the Annex to Executive Order 13391 of November 22, 2005, “Blocking Property of Additional Persons Undermining Democratic Processes or Institutions in Zimbabwe” (E.O. 13391), and the individuals below were also identified in the Annex to E.O. 13391. On March 3, 2019, OFAC determined that circumstances no longer warrant the inclusion of the following persons on the SDN List under this authority. These persons are no longer subject to the blocking provisions of Section 1(a) of E.O. 13288, as amended by E.O. 13391.

Individuals

1. KAUKONDE, Ray Joseph, Private Bag 7706, Causeway, Harare, Zimbabwe; DOB 04 Mar 1963; Mashonaland East Provincial Governor (individual) [ZIMBABWE].

2. MAHOFA, Shuvai Ben; DOB 04 Apr 1941; Passport AD000369 (Zimbabwe); Member of Parliament for Gutu South (individual) [ZIMBABWE].

3. MATHUTHU, Sithokozile; Matabeleland North Provincial Governor & Deputy Secretary for Transport and Social Welfare (individual) [ZIMBABWE].

4. NDLOVU, Naison K.; DOB 22 Oct 1930; Politburo Secretary for Production and Labor (individual) [ZIMBABWE].

Dated: March 11, 2020.
Bradley T. Smith,
Deputy Director, Office of Foreign Assets Control.

[FR Doc. 2020-05902 Filed 3-19-20; 8:45 am]

BILLING CODE 4810-AL-P